DEPARTMENT OF HEALTH AND HUMAN SERVICES

National Institutes of Health

Prospective Grant of Exclusive License: Use of 3-deazaneplanocin A and Cyclopentenyl Cytosine for the Development of the Topical Treatment of Basal Cell Carcinoma and Resistant Herpes Simplex Virus Infections

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of a an exclusive license to practice the invention embodied in:

(1) U.S. Patent No. 4,968,690, issued Nov. 6, 1990, entitled “3-DEAZANEPLANOCIN A AND METHOD OF PREPARATION” (E-493-1985/0-US-02) (Inventors: Victor E. Marquez, John S. Driscoll, Mu-III Lim, Christopher K Tseng, Alberto Haces and Robert Glazer) (NCI), a continuation of prior application 867,583, filed May 27, 1986, now abandoned.

(2) U.S. Patent No. 4,975,434, issued Dec. 4, 1990, entitled “ANTIVIRAL AND ANTICANCER CYCLOPENTENYL CYTOSINE” (E-493-1985/1-US-01) (Inventors: Victor E. Marquez, John S. Driscoll, Mu-III Lim, Christopher K Tseng, Alberto Haces and Robert Glazer) (NCI), a continuation of prior application 867,583, filed May 27, 1986, now abandoned to GRX Pharmaceuticals (hereafter GRX), having a place of business in Marlboro, New Jersey. The patent rights in these inventions have been assigned to the United States of America.

DATES: Only written comments and/or application for a license, which are received by the NIH Office of Technology Transfer on or before April 5, 2005, will be considered.

ADDRESSES: Requests for a copy of the patent application, inquiries, comments and other materials relating to the contemplated license should be directed to: Sally Hu, Ph.D., M.B.A., Office of Technology Transfer, National Institutes of Health, 6011 Executive Boulevard, Suite 325, Rockville, MD 20852-3804; e-mail: hus@od.nih.gov; telephone: (301) 435-5606; Facsimile: (301) 402-0220.

SUPPLEMENTARY INFORMATION: The technology described in E-493-1985/0-US-02 relates to antiviral and cancer chemotherapy and, more particularly, to the compound 3-deazaneplanocin A and related compounds and a method of preparation thereof, as well as the methods of preparation of a great variety of unsaturated (cyclopentenyl) carbocyclic nucleosides.

The technology described in E-493-1985/1-US-01 relates to antiviral and cancer chemotherapy and, more particularly, to cyclopentenyl pyrimidines which can be used for antiviral and cancer chemotherapy, as well as to methods of preparation of these compounds.

The prospective exclusive license will be royalty bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

The field of use may be limited to the development of the topical treatment of basal cell carcinoma and resistant herpes simplex virus infections.

Properly filed competing applications for a license filed in response to this notice will be treated as objections to the contemplated license. Comments and objections submitted in response to this notice will not be made available for public inspection, and, to the extent permitted by law, will not be released under the Freedom of Information Act, 5 U.S.C. 552.

Dated: January 21, 2005.
Mark L. Rohrbaugh,
Director, Office of Technology Transfer, National Institutes of Health.

[FR Doc. 05-2126 Filed 2-3-05; 8:45 am]

BILLING CODE 4140-01-P